INTERNATIONAL TRADE COMMISSION

[USITC SE-16-032]

Government in the Sunshine Act Meeting Notice

AGENCY HOLDING THE MEETING: United States International Trade Commission.

TIME AND DATE: September 16, 2016 at 11:00 a.m.

PLACE: Room 101, 500 E Street SW., Washington, DC 20436, Telephone: (202) 205-2000.

STATUS: Open to the public.

MATTERS TO BE CONSIDERED:

1. Agendas for future meetings: None.

2. Minutes.

3. Ratification List.

4. Vote in Inv. No. 731-TA-808 (Third Review) (Hot-Rolled Carbon Steel Flat Products from Russia). The Commission is currently scheduled to complete and file its determination and views of the Commission on September 29, 2016.

5. Outstanding action jackets: None.

In accordance with Commission policy, subject matter listed above, not disposed of at the scheduled meeting, may be carried over to the agenda of the following meeting. Earlier notification of this meeting was not possible.

By order of the Commission.
Issued: September 7, 2016.
William R. Bishop,
Supervisory Hearings and Information Officer.

[FR Doc. 2016-21918 Filed 9-8-16; 11:15 am]

BILLING CODE 7020-02-P